NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold seventeen meetings, by video conference, of the Humanities Panel, a federal advisory committee, during December 2024. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. 10), notice is hereby given of the following meetings:

1. Date: December 2, 2024

This video meeting will discuss applications on the topic of New World Archaeology, for the Archaeological and Ethnographic Field Research grant program, submitted to the Division of Research Programs.

2. Date: December 3, 2024

This video meeting will discuss applications on the topic of Old World Archaeology, for the Archaeological and Ethnographic Field Research grant program, submitted to the Division of Research Programs.

3. Date: December 3, 2024

This video meeting will discuss applications on the topics of History of Science and Technology, for the Humanities Collections and Reference Resources grant program, submitted to the Division of Preservation and Access.

4. Date: December 3, 2024

This video meeting will discuss applications on the topics of Science and Health, for Dangers and Opportunities of Technology: Perspectives from the Humanities (Collaborative) grant program, submitted to the Office of Digital Humanities.

5. Date: December 4, 2024

This video meeting will discuss applications on the topics of Social Media, internet, and Society, for the Dangers and Opportunities of Technology: Perspectives from the Humanities (Collaborative) grant program, submitted to the Office of Digital Humanities.

6. Date: December 5, 2024

This video meeting will discuss applications on the topic of History of Technology, for the Dangers and Opportunities of Technology: Perspectives from the Humanities (Collaborative) grant program, submitted to the Office of Digital Humanities.

7. Date: December 5, 2024

This video meeting will discuss applications on the topic of African American Studies, for the Humanities Collections and Reference Resources grant program, submitted to the Division of Preservation and Access.

8. Date: December 6, 2024

This video meeting will discuss applications on the topics of History and Social Sciences, for the Dangers and Opportunities of Technology: Perspectives from the Humanities (Collaborative) grant program, submitted to the Office of Digital Humanities.

9. Date: December 6, 2024

This video meeting will discuss applications on the topics of Tech and Education, for the Dangers and Opportunities of Technology: Perspectives from the Humanities (Collaborative) grant program, submitted to the Office of Digital Humanities.

10. Date: December 6, 2024

This video meeting will discuss applications on the topic of Museums, for the Climate Smart Humanities Organizations grant program, submitted to the Office of Challenge Programs.

11. Date: December 6, 2024

This video meeting will discuss applications for the Dialogues on the Experience of War grant program, submitted to the Division of Education Programs.

12. Date: December 9, 2024

This video meeting will discuss applications on the topic of DLI-DEL Senior Research Grants, for the Documenting Endangered Languages Preservation grant program, submitted to the Division of Preservation and Access.

13. Date: December 10, 2024

This video meeting will discuss applications for the Dialogues on the Experience of War grant program, submitted to the Division of Education Programs.

14. Date: December 10, 2024

This video meeting will discuss applications on the topics of Cultural Organizations and Historic Sites, for the Climate Smart Humanities Organization grant program, submitted to the Office of Challenge Programs.

15. Date: December 10, 2024

This video meeting will discuss applications on the topics of Critical Data and Cultural Studies, for the Dangers and Opportunities of Technology: Perspectives from the Humanities (Collaborative) grant program, submitted to the Office of Digital Humanities.

16. Date: December 11, 2024

This video meeting will discuss applications for the Fellowship Programs at Independent Research Institutions grant program, submitted to the Division of Research Programs.

17. Date: December 13, 2024

This video meeting will discuss applications for the Fellowship Programs at Independent Research Institutions grant program, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chair's Delegation of Authority to Close Advisory Committee Meetings dated April 15, 2016.

Dated: November 15, 2024.
Jessica Graves,
Paralegal Specialist, National Endowment for the Humanities.

[FR Doc. 2024-27230 Filed 11-20-24; 8:45 am]

BILLING CODE 7536-01-P